DEPARTMENT OF DEFENSE

Department of the Army; Corps of Engineers

Notice of Intent To Prepare an Environmental Impact Statement: Department of the Army Permit Application Pursuant to the Clean Water Act and Rivers and Harbors Act and Permissions Under the Coastal Protection and Restoration Authority of Louisiana for the Mid-Barataria Sediment Diversion, Plaquemines Parish, LA

AGENCY: Department of the Army, U.S. Army Corps of Engineers, DoD.

ACTION: Notice of Intent.

SUMMARY: The U.S. Army Corps of Engineers (USACE) intends to prepare an Environmental Impact Statement (EIS) to inform a decision relative to the request for a Department of the Army (DA) permit pursuant to Section 404 of the Clean Water Act (CWA) and Section 10 of the Rivers and Harbors Act, and permissions under 33 U.S.C. Section 408, to the Coastal Protection and Restoration Authority (CPRA) for their proposed action on the Mid-Barataria Sediment Diversion (MBSD). The EIS will be used to ensure compliance with the National Environmental Policy Act (NEPA) and as a basis for both the permit decision and the Section 408 permissions.

The DA permit and the 408 permissions are two separate processes with different authorities analyzed by different mission areas (including Regulatory and Civil Works) inside the USACE. Under Section 404 of the CWA and Section 10 of the Rivers and Harbors Act, the District Engineer permits the discharge of dredged or fill material into waters of the United States as well as work, to include the installation and maintenance of structures, in navigable waters of the U.S., if the discharge meets the requirements of the Environmental Protection Agency's 404(b)(1) guidelines, and the proposal is determined to not be contrary to the overall public interest. Under 33 U.S.C. 408, the Chief of Engineers grants permission to alter, modify, or impair an existing USACE project if it is not injurious to the public interest and does not impair the usefulness of such work. The project involves structural crossings of the Federal Mississippi River and Tributaries (MR&T) Levee and the future New Orleans to Venice (NOV) Hurricane Protection Levee and could impact the Mississippi River Navigation Channel, Davis Pond Freshwater Diversion as well as other Federal projects. USACE Regulatory and Civil Works will coordinate on all aspects of the production of the EIS.

ADDRESSES: Written comments and suggestions should be addressed to Mr. Nathan Dayan at USACE, CEMVN-PDN-CEP, P.O. Box 60267, New Orleans, LA 70118-0267, by phone (504) 862-2530, or by email at CEMVN-Midbarataria@usace.army.mil. Request to be placed on the mailing list should be mailed to this address.

FOR FURTHER INFORMATION CONTACT: Questions on the DA permit should be directed to: Mr. Robert Tewis by phone (504) 862-2041 or at the email above. Questions on the 408 permissions should be directed to: Mr. Nathan Dayan (see ADDRESSES) or at the email above.

SUPPLEMENTARY INFORMATION: 1. Authority: Section 14 of the Rivers and Harbors Act of 1899 (33 U.S.C. 408); Section 10 of the Rivers and Harbors Act of 1899 (33 U.S.C 403); Section 404 of the Clean Water Act (33 U.S.C. 1344); and, Section 102 of the National Environmental Policy Act (42 U.S.C. 4332).

2. Proposed Action. The USACE will prepare an EIS to analyze the impacts of diverting sediment-laden Mississippi River water into the Mid-Barataria Basin by CPRA. This permit request is proposed to re-establish a connection between the Mississippi River and the Basin to build, sustain, and maintain land. CPRA is proposing to construct the diversion intake through the levee on the west side of the Mississippi River at approximately river mile 60.7, in Plaquemines Parish, LA, and the diversion outfall through the future NOV Hurricane Protection Levee into the Mid-Barataria Basin to allow sediment laden water from the Mississippi River to flow into the Barataria Basin.

3. Alternatives. The EIS will address an array of alternatives to re-establish a connection between the Mississippi River and the Basin. Some alternatives will be brought forward from existing studies and projects including the Coastal Wetlands Planning, Protection and Restoration Act (CWPPRA) Program, Louisiana Coastal Area (LCA) Ecosystem Restoration Study, LCA Medium Diversion at Myrtle Grove (MDMG) with Dedicated Dredging Feasibility Study, the State/Non-governmental Organization (NGO) Myrtle Grove Delta Building Diversion Modeling Effort in Support of LCA Medium Diversion at Myrtle Grove with Dedicated Dredging, the 2012 Louisiana Coastal Master Plan, and alternatives developed through the NEPA scoping process.

4. Scoping. Scoping is the process utilized for determining the range of alternatives and significant issues to be addressed in the EIS. The USACE invites full public participation to promote open communication on the issues surrounding the proposed action. All individuals, organizations, NGOs, and local, state, and Federal agencies that have an interest are urged to participate in the NEPA scoping process. Public scoping meeting(s) will be held to present information to the public and to receive comments from the public. Public scoping meetings for both processes will be conducted jointly. The dates, times and locations of the scoping meetings will be determined in conjunction with CPRA at a later date and announced through local media channels as well as Regulatory public notice Web site— http://www.mvn.usace.army.mil/Missions/Regulatory/PublicNotices.aspx.

5. Significant issues. The EIS will analyze the potential social, economic, and natural environmental impacts resulting from the proposed project. Important resources and issues that will be evaluated in the EIS could include but would not be limited to effects on tidal wetlands and other waters of the U.S.; aquatic resources; commercial and recreational fisheries; wildlife resources; essential fish habitat; water quality; cultural resources; geology and soils including agricultural and prime/unique farmland; hydrology and hydraulic; air quality; threatened and endangered species and critical habitat. Socioeconomic issues include navigation; induced flooding; land use; property values, tax revenues; population and housing, community and regional growth; environmental justice (effect on minorities and low income populations), community cohesion; public services, recreation, transportation and traffic, utilities and community service systems and cumulative effects of related projects in the study area.

6. Environmental Consultation and Review. The U.S. Fish and Wildlife Service (Service) will assist in documenting existing conditions and assessing effects of project alternatives through the Fish and Wildlife Coordination Act consultation procedures. Consultation will be accomplished with the USFWS and the National Marine Fisheries Service (NMFS) concerning threatened and endangered species and their critical habitat per the Endangered Species Act. The NMFS will be consulted regarding the effects of this proposed action on Essential Fish Habitat per the Magnuson-Stevens Act. The USACE will consult with the State Historic Preservation Officer per the National Historic Preservation Act.

7. Availability. The draft EIS is estimated to be available for public review and comment no sooner than the spring of 2015. At that time a 45-day public review period will be provided for individuals and agencies to review and comment on the DEIS. All interested parties are encouraged to respond to this notice and provide a current address if they wish to be notified of the DEIS circulation.

Dated: September 26, 2013.
Richard L. Hansen,
Colonel, U.S. Army District Commander.

[FR Doc. 2013-24234 Filed 10-3-13; 8:45 am]

BILLING CODE 3720-58-P